DEPARTMENT OF THE TREASURY

Internal Revenue Service

26 CFR Part 1

[TD 9546]

RIN 1545-BD04

Definition of Solid Waste Disposal Facilities for Tax-Exempt Bond Purposes; Correction

AGENCY: Internal Revenue Service (IRS), Treasury.

ACTION: Correcting amendment.

SUMMARY: This document contains corrections to final regulations (TD 9546) that were published in the Federal Register on Friday, August 19, 2011, on the definition of solid waste disposal facilities for purposes of the rules applicable to tax-exempt bonds issued by State and local governments. These regulations provide guidance to State and local governments that issue tax-exempt bonds to finance solid waste disposal facilities and to taxpayers that use those facilities.

DATES: This correction is effective on September 7, 2011 and is applicable beginning October 18, 2011.

FOR FURTHER INFORMATION CONTACT: Timothy Jones, (202) 622-3980 (not a toll free number).

SUPPLEMENTARY INFORMATION:

Background

The final regulations that are the subject of this document are under section 142 of the Internal Revenue Code.

Need for Correction

As published August 19, 2011 (76 FR 51879), the final regulations (TD 9546) contain errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.142(a)(6)-1 is amended by revising paragraph (c)(2)(v), and the first sentence of paragraph (h), Example 9 (ii) to read as follows:

§ 1.142(a)(6)-1 Exempt facility bonds: solid waste disposal facilities.

* * * * *

(c) * * *

(2) * * *

(v) Radioactive material. Solid waste excludes any radioactive material subject to regulation under the Nuclear Regulatory Act (10 CFR 1.1 et seq.), as in effect on the issue date of the bonds.

* * * * *

(h) * * *

Example 9 * * *

(ii) The facts are the same as in paragraph (i) of this Example 9, except that the stripped bark represents only 55 percent by weight and volume of the materials that are transported by the conveyor belt. * * *

* * * * *

LaNita VanDyke,
Chief, Publications and Regulations Branch, Legal Processing Division, Associate Chief Counsel, (Procedure and Administration).

[FR Doc. 2011-22738 Filed 9-6-11; 8:45 am]

BILLING CODE 4830-01-P